DEPARTMENT OF COMMERCE

National Oceanic and Atmospheric Administration

Proposed Information Collection; Comment Request; Marine Recreational Fisheries Statistics Survey

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before June 6, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Erik Zlokovitz, (301) 713-2328, or Erik.Zlokovitz@noaa.gov.

SUPPLEMENTARY INFORMATION:

I. Abstract

The marine recreational anglers are surveyed for catch and effort data, fish biology data, and angler socioeconomic characteristics. These data are required to carry out provisions of the Magnuson-Stevens Fishery Conservation and Management Act (16 U.S.C. 1801 et seq.), as amended, regarding conservation and management of fishery resources.

II. Method of Collection

Information is collected by telephone interviews and on-site intercept interviews. A random-digit-dialing telephone survey of coastal zone households is used to collect data on the proportion of marine fishing households and the number of shore and private/rental boat fishing trips by residents of those households. Directory-based surveys of boat operators and licensed saltwater anglers collect data on the number of for-hire fishing trips and the number of fishing trips by licensed anglers, respectively. On-site intercept interviews of marine recreational anglers are conducted to collect data on the catch per trip by species. Data on fishing effort and number of trips from the telephone surveys are combined with the catch per unit effort data from the on-site intercept data to generate recreational catch estimates. Supplemental surveys collect economic data about marine recreational fishing.

III. Data

OMB Number: 0648-0052.

Form Number: None.

Type of Review: Regular submission.

Affected Public: Individuals or households, business or other for-profit organizations.

Estimated Number of Respondents: 838,193.

Estimated Time Per Response: 7 minutes for fishing households; 1 minute for non-fishing households; 30 seconds for non-households; 4 minutes, 30 seconds for intercepted anglers; 1 minute, 30 seconds for intercept survey verification calls; 3 minutes for supplemental economic data from fishing households; 8 minutes for supplemental economic data from intercepted anglers and Telephone Follow-Up survey; 15 minutes for Economic Intercept and Mail Follow-Up Survey; 7 minutes for For-Hire Telephone Survey of Angler Fishing; 60 minutes for Economic For-hire In-person survey; 8 minutes for Economic Telephone Survey of For-hire Businesses; and 1 minute for Biological Data Collection.

Estimated Total Annual Burden Hours: 46,296.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 1, 2008.
Gwellnar Banks,
Management Analyst, Office of the Chief Information Officer.

[FR Doc. E8-7109 Filed 4-4-08; 8:45 am]

BILLING CODE 3510-22-P